DEPARTMENT OF ENERGY

10 CFR Part 430

[EERE-2017-BT-STD-0059]

Energy Conservation Program: Energy Conservation Standards Program Design

AGENCY: Office of Energy Efficiency and Renewable Energy, Department of Energy.

ACTION: Notice of comment period extension.

SUMMARY: The Department of Energy (DOE) published, on November 28, 2017, a Request for Information (RFI) seeking comments from interested parties to assist DOE in evaluating the potential advantages and disadvantages of additional flexibilities in the U.S. Appliance and Equipment Energy Conservations Standards (ECS) program. The comment period for the RFI ends on February 26, 2018. Through this notice, DOE extends the comment period until March 26, 2018.

DATES: The comment period for the RFI published in the Federal Register on November 28, 2017 (82 FR 56181) is extended to March 26, 2018. Written comments and information are requested on or before March 26, 2018.

ADDRESSES: Interested persons are encouraged to submit comments by any of the following methods:

• Federal eRulemaking Portal: http://www.regulations.gov. Follow the instructions for submitting comments.

• Email: ProgramDesign2017STD0059@ee.doe.gov. Include “EERE-2017-BT-STD-0059” in the subject line of the message.

• Postal Mail: Appliance and Equipment Standards Program, U.S. Department of Energy, Building Technologies Office, Mailstop EE-5B, 1000 Independence Avenue SW, Washington, DC, 20585-0121.

Docket: The docket for this activity, which includes Federal Register notices, comments, and other supporting documents/materials, is available for review at http://www.regulations.gov. All documents in the docket are listed in the http://www.regulations.gov index. However, some documents listed in the index, such as those containing information that is exempt from public disclosure, may not be publicly available.

The docket web page can be found at https://www.regulations.gov/docket?D=EERE-2017-BT-STD-0059. The docket web page will contain simple instructions on how to access all documents, including public comments, in the docket.

FOR FURTHER INFORMATION CONTACT: Appliance and Equipment Standards Program Staff, U.S. Department of Energy, Office of Energy Efficiency and Renewable Energy, Building Technologies Program, EE-5B, 1000 Independence Avenue SW, Washington, DC 20585-0121. Telephone: (202) 287-1445. Email: ProgramDesign2017STD0059@ee.doe.gov.

SUPPLEMENTARY INFORMATION:

The Department of Energy (DOE) published a Request for Information (RFI) on November 28, 2017 (82 FR 56181) requesting feedback on the design, value, and solutions to potential challenges of revising the U.S. Appliance and Equipment Energy Conservation Standards (ECS) program to include additional compliance flexibilities, with the goal of reducing compliance costs, enhancing consumer choice and maintaining or increasing energy savings. The comment period for the RFI was previously February 26, 2018. In a letter dated February 9, 2018, Edison Electric Institute (EEI) requested that the comment period for the RFI be extended to March 9, 2018, to allow more time for member companies to submit information to EEI. (EERE-2017-BT-STD-0059-0015) DOE also received a letter dated February 13, 2018, from the Air-Conditioning, Heating, & Refrigeration Institute (AHRI) requesting that the comment period be extended until March 26, 2018, to allow more time for their members to submit information to AHRI. (EERE-2017-BT-STD-0059-0016) DOE grants these requests and extends the comment period until March 26, 2018.

Approval of the Office of the Secretary

The Secretary of Energy has approved the publication of this document.

Issued in Washington, DC, on February 16, 2018.
Daniel R Simmons,
Principal Deputy Assistant Secretary, Energy Efficiency and Renewable Energy.

[FR Doc. 2018-03737 Filed 2-22-18; 8:45 am]

BILLING CODE 6450-01-P